DEPARTMENT OF HEALTH AND HUMAN SERVICES

Health Resources and Service Administration

Advisory Committee on Interdisciplinary, Community-Based Linkages; Notice of Meeting

In accordance with section 10(a) (2) of the Federal Advisory Committee Act (Pub. L. 92-463), notice is hereby given of the following meeting:

Name: Advisory Committee on Interdisciplinary, Community-Based Linkages (ACICBL).

Dates and Times: April 24, 2012, 10 a.m. to 4 p.m., EDST.

Place: Webinar Format.

Status: The meeting will be open to the public.

Purpose: The Committee members will finalize their efforts to develop the 12th Annual Report for the Secretary of the Department of Health and Human Services (the Secretary) and the Congress, focusing on the topic Preparing the Interprofessional Team to Care for Diverse Populations. The meeting will afford Committee members with the opportunity to finalize the outstanding components of the annual report.

Agenda: The ACICBL agenda includes an overview by Dr. Linda Redford, Chairperson of the ACICBL, specific to the opportunities outlined in the report and recommendations indicated. The agenda will be available 2 days prior to the meeting on the HRSA Web site (http://www.hrsa.gov/advisorycommittees/bhpradvisory/acicbl/Meetings/index.html). Agenda items are subject to change as dictated by the priorities of the Committee.

Supplementary Information: Requests to make oral comments or to provide written comments to the ACICBL should be sent to Dr. Joan Weiss, Designated Federal Official, at the contact information below. Written comments can be provided before and after the meeting. Individuals who plan to participate in the webinar should register at least one day prior to the meeting using the following webinar information: https://hrsa.connectsolutions.com/e45379671/event/registration.html.

The conference call-in number is 1-888-946-9420, and the passcode is ACICBL.

For Further Information Contact: Anyone requesting information regarding the ACICBL should contact Dr. Joan Weiss, Designated Federal Official within the Bureau of Health Professions, Health Resources and Services Administration, in one of three ways: (1) Send a request to the following address: Dr. Joan Weiss, Designated Federal Official, Bureau of Health Professions, Health Resources and Services Administration, Parklawn Building, Room 9C-26, 5600 Fishers Lane, Rockville, Maryland 20857; (2) call (301) 443-6950; or (3) send an email to jweiss@hrsa.gov. In the absence of Dr. Weiss, CAPT Norma J. Hatot, Senior Nurse Consultant, can be contacted via telephone at (301) 443-2681 or by email at nhatot@hrsa.gov.

Dated: March 22, 2012.
Reva Harris,
Acting Director, Division of Policy and Information Coordination.

[FR Doc. 2012-7564 Filed 3-28-12; 8:45 am]

BILLING CODE 4165-15-P